DEPARTMENT OF COMMERCE

Census Bureau

Survey of Program Dynamics—2002

ACTION: Proposed collection; comment request.

SUMMARY: The Department of Commerce, as part of its continuing effort to reduce paperwork and respondent burden, invites the general public and other federal agencies to take this opportunity to comment on proposed or continuing information collections, as required by the Paperwork Reduction Act of 1995, Public Law 104-13 (44 U.S.C. 3506(c)(2)(A)).

DATES: Written comments must be submitted on or before October 9, 2001.

ADDRESSES: Direct all written comments to Madeleine Clayton, Departmental Paperwork Clearance Officer, Department of Commerce, Room 6086, 14th and Constitution Avenue, NW, Washington, DC 20230 (or via the Internet at MClayton@doc.gov).

FOR FURTHER INFORMATION CONTACT: Requests for additional information or copies of the information collection instrument and instructions should be directed to Michael McMahon, Census Bureau, FOB 3, Room 3375, Washington, DC 20233-0001, (301) 457-1616.

SUPPLEMENTARY INFORMATION

I. Abstract

The Survey of Program Dynamics (SPD) is a household-based survey designed as a data collection vehicle that can provide the basis for an overall evaluation of how well welfare reforms are achieving the aims of the Administration and the Congress and meeting the needs of the American people.

The SPD is a large, longitudinal, nationally-representative study that measures participation in welfare programs, including both programs that are being reformed and those that remain unchanged. The SPD measures other important social, economic, demographic, and family changes that will allow analysis of the effectiveness of the welfare reforms.

With the August 22, 1996, signing of the Personal Responsibility and Work Opportunity Reconciliation Act of 1996 (Pub. L. 104-193), the Census Bureau is required to conduct the SPD, using as the sample the households from the 1992 and 1993 Survey of Income and Program Participation (SIPP). The information we obtain will be used to evaluate the impact of this law on a sample of previous welfare recipients and future recipients of assistance under new state programs funded under this law as well as assess the impact on other low-income families. Issues of particular attention include welfare dependency, the length of welfare spells, the causes of repeat welfare spells, educational enrollment and work training, health care utilization, out-of-wedlock births, and the status of children.

The 2002 SPD is the fifth year of data collection using the same SPD core questions. The effect of welfare changes on children's behaviors and outcomes is a great concern to those evaluating welfare reform. Therefore, the 2002 data collection will include additional questions on the extended measures of child well-being, last asked during the 1999 data collection. The extended measures of child well-being questions cover parent/child interactions; frequency of specific cognitively-stimulating children activities; establishment of family routines; family conflict; behavior problems; and school engagement and attendance.

The history of SPD is as follows:

• During the 1997 SPD, we collected data using the Current Population Survey (CPS) March questionnaire. The CPS March questionnaire provided baseline income, work experience, and program participation (“core data”) data for the period prior to the implementation of welfare reforms in1996.

• During the 1998 and 2001 SPD, we collected the core data plus data from adolescents on their homelife, school, peers, and potential risk behaviors.

• During the 1999 SPD, we collected core data plus extended measures of child well-being. We will collect extended measures of child well-being data again in 2002.

• During the 2000 SPD, we collected core data plus a one-time topical module which collected the residential histories of children.

II. Method of Collection

The SPD is a longitudinal study of welfare-related activities with the sample respondents originally selected from 1992 and 1993 SIPP panels. We conducted interviews in 1997, 1998, 1999, 2000, and 2001. We collect data from a nationally representative sample of the noninstitutionalized resident population living in the United States for all individuals, families, and households using a computer-assisted interviewing (CAI) instrument. Individuals who are at least 15 years of age at the time of the interview will be eligible to be in the survey.

We have scheduled a small sample of households for reinterview. The reinterview process assures that all households were properly contacted and that the data are valid.

III. Data

OMB Number: 0607-0838.

Form Number: CAI Automated Instrument.

Type of Review: Regular.

Affected Public: Individuals or Households.

Estimated Number of Respondents: 52,000 respondents, 1,500 reinterview respondents.

Estimated Time Per Response: 36 minutes per respondent, 10 minutes per reinterview.

Estimated Total Annual Burden Hours: 31,450.

Estimated Total Annual Cost: No costs to the respondents other than their time.

Respondent's Obligation: Voluntary.

Legal Authority: Title 13, United States Code, Section 182; and Title 42, United States Code, Section 614 (Public Law 104-193, Section 414, signed August 22, 1996).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice are summarized or included in the request for OMB approval of this information collection; they also will become a matter of public record.

Dated: August 2, 2001.
Madeleine Clayton,
Departmental Paperwork Clearance Officer, Office of the Chief Information Officer.

[FR Doc. 01-19678 Filed 8-6-01; 8:45 am]

BILLING CODE 3510-07-P